DEPARTMENT OF ENERGY

Blue Ribbon Commission on America's Nuclear Future

AGENCY: Department of Energy, Office of Nuclear Energy.

ACTION: Notice of open meeting.

SUMMARY: This notice announces an open meeting of the Blue Ribbon Commission on America's Nuclear Future (the Commission). The Commission was organized pursuant to the Federal Advisory Committee Act (Pub. L. No. 92-463, 86 Stat. 770) (the Act). This notice is provided in accordance with the Act.

DATES:

Tuesday, May 25, 2010: 8:30 a.m.-5 p.m.

Wednesday, May 26, 2010: 8:30 a.m.-12 p.m.

ADDRESSES: Washington Marriott, 1221 22nd Street, NW., Washington, DC 20037, 202-872-1500.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information may also be available at http://www.brc.gov.

SUPPLEMENTARY INFORMATION: Background: The President directed that the Blue Ribbon Commission on America's Nuclear Future (the Commission) be established to conduct a comprehensive review of policies for managing the back end of the nuclear fuel cycle. The Commission will provide advice and make recommendations on issues including alternatives for the storage, processing, and disposal of civilian and defense spent nuclear fuel and high-level nuclear waste.

The Commission held its first full Commission meeting on March 25 and 26, 2010. The Commission is scheduled to submit a draft report to the Secretary by July 2011, and a final report by January 2012.

Purpose of the Meeting: The meeting will provide the Commission with a broad range of perspectives from various stakeholder groups. Additionally, the Commission will discuss an action plan for moving forward and subcommittees.

Tentative Agenda: The meeting is expected to start at 8:30 a.m. on May 25 with review of the Commission action plan and Commission discussion of subcommittees. The Commission will then hear presentations from various stakeholder groups, and ask questions of the presenters to provide additional information for Commission consideration. The meeting on May 26 is expected to start at 8:30 a.m. with additional presentations, a discussion by the Commission of next steps, and public statements. The meeting will conclude at 12 p.m.

Public Participation: The meeting is open to the public. Individuals and representatives of organizations who would like to offer comments and suggestions may do so at the end of the meeting on Wednesday, May 26, 2010. Approximately 45 minutes will be reserved for public comments. Time allotted per speaker will depend on the number who wish to speak but will not exceed 5 minutes. The Designated Federal Officer is empowered to conduct the meeting in a fashion that will facilitate the orderly conduct of business. Those wishing to speak should register to do so beginning at 8:00 a.m. on May 26, 2010.

Those not able to attend the meeting or have insufficient time to address the committee are invited to send a written statement to Timothy A. Frazier, U.S. Department of Energy, 1000 Independence Avenue, SW., Washington, DC 20585, e-mail to CommissionDFO@nuclear.energy.gov, or post comments on the Commission Web site at http://www.brc.gov.

Additionally, the meeting will be available via live webcast. The link will be available at http://www.brc.gov.

Minutes: The minutes of the meeting will be available at http://www.brc.gov or by contacting Mr. Frazier. He may be reached at the postal address or e-mail address above.

Issued in Washington, DC, on May 5, 2010.
Rachel Samuel,
Deputy Committee Management Officer.

[FR Doc. 2010-11015 Filed 5-7-10; 8:45 am]

BILLING CODE 6450-01-P